DEPARTMENT OF THE INTERIOR

Bureau of Ocean Energy Management

[Docket No. BOEM-2022-0071]

Notice of Availability of a Draft Environmental Impact Statement for Sunrise Wind, LLC's Proposed Sunrise Wind Farm Offshore New York

AGENCY: Bureau of Ocean Energy Management (BOEM), Interior.

ACTION: Notice of availability; request for comments.

SUMMARY: BOEM announces the availability of the draft environmental impact statement (DEIS) for the construction and operations plan (COP) submitted by Sunrise Wind, LLC (Sunrise Wind) for its proposed Sunrise Wind Offshore Wind Farm Project (Project) offshore New York, Massachusetts, and Rhode Island. The DEIS analyzes the potential environmental impacts of the Project as described in the COP (the proposed action) and the alternatives to the proposed action. This notice of availability (NOA) announces the start of the public review and comment period, as well as the dates and times for virtual public hearings on the DEIS. After the comment period and public hearings, BOEM will publish a final environmental impact statement (FEIS) addressing comments received on the DEIS. The FEIS will inform BOEM's decision whether to approve, approve with modifications, or disapprove the COP.

DATES: Comments must be received no later than February 14, 2023. BOEM will conduct three virtual public hearings. BOEM's virtual public hearings will be held at the following times (eastern time).

• Wednesday, January 18, 2023; 5:00 p.m.

• Thursday, January 19, 2023; 5:00 p.m.

• Monday, January 23, 2023; 1:00 p.m.

ADDRESSES: The DEIS and detailed information about the Project, including the COP, can be found on BOEM's website at: https://www.boem.gov/renewable-energy/state-activities/sunrise-wind-activities. Comments can be submitted in any of the following ways:

• Orally or in written form during any of the virtual public hearings identified in this NOA.

• In written form by mail or any other delivery service, enclosed in an envelope labeled “Sunrise Wind COP DEIS” and addressed to Program Manager, Office of Renewable Energy Programs, Bureau of Ocean Energy Management, 45600 Woodland Road, Sterling, VA 20166.

• Through the regulations.gov web portal: Navigate to https://www.regulations.gov and search for Docket No. BOEM-2022-0071. Click on the “Comment” button below the document link. Enter your information and comment, then click “Submit Comment.”

For more information about submitting comments, please see “Information on Submitting Comments” under the SUPPLEMENTARY INFORMATION heading below.

Registration for the virtual public hearings may be completed here: https://www.boem.gov/renewable-energy/state-activities/sunrise-wind-activities or by calling (703) 787-1520. Registration for the virtual hearings is required. Meeting information will be sent to registrants via their email address provided during registration.

FOR FURTHER INFORMATION CONTACT: Jessica Stromberg, BOEM Office of Renewable Energy Programs, 45600 Woodland Road, Sterling, Virginia 20166, (703) 787-1730 or jessica.stromberg@boem.gov.

SUPPLEMENTARY INFORMATION:

Proposed Action: Sunrise Wind seeks approval to construct, operate, and maintain a wind energy facility and its associated export cables on the Outer Continental Shelf (OCS) offshore New York, Massachusetts, and Rhode Island. The Project would be developed within the range of design parameters outlined in the Sunrise Wind COP, subject to the applicable mitigation measures. The Project as proposed in the COP would include up to 94 wind turbine generators (WTGs) within 102 potential locations, 1 offshore converter station, inter-array cables linking the individual WTGs to the offshore substation, 1 offshore export cable, 1 onshore converter station, 1 fiber optic cable co-located with the onshore transmission route, and onshore interconnection cables connecting to the existing electrical grid in New York. The WTGs, offshore substation, and inter-array cables would be located on the OCS approximately 16.4 nautical miles (nm) (18.9 statute miles[mi]) south of Martha's Vineyard, Massachusetts, approximately 26.5 nm (30.5 mi) east of Montauk, New York, and 14.5 nm (16.7 mi) from Block Island, Rhode Island, within the area defined by Renewable Energy Lease OCS-A 0487 (Lease Area). The offshore export cables would be buried below the seabed surface on the U.S. OCS and State of New York-owned submerged lands. The onshore export cables, substation, and grid connection would be located in Holbrook, New York.

Alternatives: BOEM considered 16 alternatives when preparing the DEIS and carried forward 3 alternatives for further analysis in the DEIS. These three alternatives include two action alternatives and the no action alternative. BOEM did not analyze in detail 13 of the alternatives because they did not meet the purpose and need for the proposed action or did not meet screening criteria, which are presented in DEIS chapter 2. The screening criteria included consistency with law and regulations; technical and economic feasibility; environmental impacts; and geographic considerations.

Availability of the DEIS: The DEIS, Sunrise Wind COP, and associated information are available on BOEM's website at: https://www.boem.gov/renewable-energy/state-activities/sunrise-wind-activities. BOEM has distributed digital copies of the DEIS to all parties listed in DEIS appendix M. If you require a flash drive or paper copy, BOEM will provide one upon request, as long as supplies are available. You may request a flash drive or paper copy of the DEIS by calling (504) 736-5713.

Cooperating Agencies: The following Federal agencies and State governmental entities participated as cooperating agencies under the National Environmental Policy Act in the preparation of the DEIS: Bureau of Safety and Environmental Enforcement; U.S. Environmental Protection Agency; National Marine Fisheries Service; U.S. Army Corps of Engineers; U.S. Coast Guard; National Park Service; U.S. Fish and Wildlife Service; New York Department of State; Massachusetts Office of Coastal Zone Management; Rhode Island Coastal Resources Management Council; and the Rhode Island Department of Environmental Management.

Information on Submitting Comments: BOEM does not consider anonymous comments. Please include your name and address as part of your comment. BOEM makes your comments, including your name and address, available for public review online and during regular business hours. You may request that BOEM withhold your name, address, or any other personally identifiable information (PII) included in your comment from the public record; however, BOEM cannot guarantee that it will be able to do so. If you wish your name, address, or other PII to be withheld, you must state your request prominently in a cover letter and explain the harm that you fear from its disclosure such as unwarranted privacy invasion, embarrassment, or injury. Even if BOEM withholds your information in the context of this notice, your comment is subject to the Freedom of Information Act (FOIA) and any relevant court orders. If your comment is requested under the FOIA or relevant court order, your information will only be withheld if a determination is made that one of the FOIA exemptions to disclosure applies or if the relevant court order is challenged. Such a determination will be made in accordance with the Department of the Interior's FOIA regulations and applicable law.

Please label privileged or confidential information as “Contains Confidential Information,” and consider submitting such information as a separate attachment. Information that is not labeled as privileged or confidential may be regarded by BOEM as suitable for public release.

All submissions from organizations or businesses and from individuals identifying themselves as representatives or officials of organizations or businesses will be made available for public inspection in their entirety.

Authority: 42 U.S.C. 4231 et seq. (NEPA, as amended) and 40 CFR 1506.6.

Karen Baker,
Chief, Office of Renewable Energy Programs, Bureau of Ocean Energy Management.

[FR Doc. 2022-27185 Filed 12-15-22; 8:45 am]

BILLING CODE 4340-98-P